DEPARTMENT OF JUSTICE

Notice of Lodging of Consent Decree Under the Clean Air Act

Under 28 CFR 50.7, notice is hereby given that on October 12, 2005, a proposed consent decree in United States v. ARCO Terminal Services Corp., Case No. 05-07358, was lodged with the United States District Court for the Central District of California.

In this action, the United States sought injunctive relief and civil penalties under Section 113 of the Clean Air Act (“CAA”), against ARCO Terminal Services Corp. (“ATSC”) for failure to use the required control equipment to control emissions that resulted in 294 separate loading events that were subject to the control requirements of Rule 1142 at its marine loading facility in Long Beach, California. The Consent Decree requires ATSC to employ its existing control technology on all loading events subject to the requirements of Rule 1142 and to pay a civil penalty of $225,000.

The Department of Justice will receive for a period of thirty (30) days from the date of this publication comments relating to the consent decree. Comments should be addressed to the Assistant Attorney General, Environment and Natural Resources Division, P.O. Box 7611, U.S. Department of Justice, Washington, DC 20044-7611, and should refer to United States v. ARCO Terminal Services Corp., D.J. Ref. #90-5-2-1-06988.

The proposed Consent Decree may be examined during the public comment period on the following United States Department of Justice Web site: http://www.usdoj.gov/enrd/open.html. A copy of the Consent Decree may also be obtained by mail from the Consent Decree Library, U.S. Department of Justice, P.O. Box 7611, Ben Franklin Station, Washington, DC 20044-7611, or by faxing or E-mailing a request to Tonia Fleetwood (tonia.fleetwood@usdoj.gov), fax number (202) 514-0097, phone confirmation number (202) 514-1547. When requesting a copy from the Consent Decree Library, please enclose a check, payable to the U.S. Treasury, in the amount of $12.25 ($.25 per page reproduction cost.

Ellen M. Mahan,
Assistant Chief, Environmental Enforcement Section, Environment and Natural Resources Division.

[FR Doc. 05-21363 Filed 10-25-05; 8:45 am]

BILLING CODE 4410-15-M